DEPARTMENT OF HOMELAND SECURITY

Coast Guard

33 CFR Part 167

[USCG-2011-0351]

Port Access Route Study: The Atlantic Coast From Maine to Florida

AGENCY: Coast Guard, DHS.

ACTION: Notice of availability; request for comment.

SUMMARY: The Coast Guard announces the availability of the final report issued by the Atlantic Coast Port Access Route Study (ACPARS) workgroup. The Coast Guard welcomes comments on the report.

DATES: Comments and related material must reach the Docket Management Facility on or before April 13, 2016.

ADDRESSES: You may submit comments identified by docket number USCG-2011-0351 using the Federal eRulemaking Portal at http://www.regulations.gov. See the “Public Participation and Request for Comments” portion of the SUPPLEMENTARY INFORMATION section for further instructions on submitting comments.

FOR FURTHER INFORMATION CONTACT: If you have questions on this notice of study contact Patrick Wycko, ACPARS Project Manager, telephone 757-398-6355, email patrick.d.wycko@uscg.mil.

SUPPLEMENTARY INFORMATION: Background and Purpose. The Atlantic Coast Port Access Route Study workgroup (WG) was chartered on May 11, 2011 and was given three objectives to complete within the limits of available resources: (1) Determine whether the Coast Guard should initiate actions to modify or create safety fairways, Traffic Separation Schemes or other routing measures; (2) Provide data, tools and/or methodology to assist in future determinations of waterways suitability for proposed projects; and (3) Develop, in the near term, Automatic Identification System (AIS) products and provide other support as necessary to assist Districts with all emerging coastal and offshore energy projects. The Coast Guard published the WG's Interim Report in the Federal Register (77 FR 55781; Sep. 11, 2012), with the status of efforts up to that date. The Interim Report concluded that modeling and analysis tools, as described in the Phase 3 section of the report, were critical to determine if routing measures are appropriate and to evaluate the changes in navigational safety risk resulting from different siting and routing scenarios. The charter for the WG was extended pending completion of the modeling and analysis. The modeling and analysis efforts concluded in the fall of 2014, but did not produce a model capable of accurately predicting changes in vessel routes and determining the resultant change in the risk to navigation safety. During this period, the WG continued gathering data and conducting stakeholder outreach. The availability and usability of processed AIS data has greatly improved, as has the ability to analyze the AIS data. The Coast Guard contracted the services of a Geographic Information System analyst to support efforts to better characterize vessel traffic and further explore creating initial proposals for routing measures independent of the Phase 3 modeling and analysis. This enabled the Coast Guard to improve its understanding of vessel routes, beyond the understanding gleaned through generic heat maps. Based on comments by the shipping industry and more recent literature on addressing shipping during marine spatial planning, the WG conducted additional research into the necessary sea space for vessels to maneuver in compliance with the International Regulations for Preventing Collisions at Sea. This research led to the development of recommended marine planning guidelines. In addition, an effort focused on determining the appropriate width of a navigation route was undertaken for alongshore towing operations. These efforts enabled the WG to identify navigation safety corridors along the Atlantic Coast that combine the width necessary for navigation and additional buffer areas based on the planning guidelines. The WG has also identified deep draft routes that it recommends be given priority consideration to navigation over other uses, to comply with the United Nations Convention of the Law of the Sea. The final report will be available on the Federal Register docket and also on the ACPARS Web site at www.uscg.mil/lantarea/acpars.

This notice is issued under authority of 33 U.S.C. 1223(c) and 5 U.S.C. 552.

Dated: February 24, 2016.
William D. Lee,
Vice Admiral, U.S. Coast Guard, Commander, Atlantic Area.

[FR Doc. 2016-05706 Filed 3-11-16; 8:45 am]

BILLING CODE 9110-04-P